FEDERAL COMMUNICATIONS COMMISSION

47 CFR Part 73

[MB Docket No. 22-39; RM-11917; DA 22-87; FR ID 69837]

Television Broadcasting Services Billings, Montana

AGENCY: Federal Communications Commission.

ACTION: Proposed rule.

SUMMARY: The Federal Communication Commission (Commission) has before it a petition for rulemaking filed by Scripps Broadcasting Holdings LCC (Petitioner), the licensee of WTVQ-TV, channel 10, Billings, Montana. The Petitioner requests the substitution of channel 20 for channel 10 at in the Table of Allotments.

DATES: Comments must be filed on or before March 7, 2022 and reply comments on or before March 21, 2022.

ADDRESSES: Federal Communications Commission, Office of the Secretary, 45 L Street NE, Washington, DC 20554. In addition to filing comments with the FCC, interested parties should serve counsel for the Petitioner as follows: Christina A. Burrow, Esq., Cooley LLP, 1299 Pennsylvania Avenue NW, Washington, DC 20006.

FOR FURTHER INFORMATION CONTACT: Joyce Bernstein, Media Bureau, at (202) 418-1647; or Joyce Bernstein, Media Bureau, at Joyce.Bernstein@fcc.gov.

SUPPLEMENTARY INFORMATION: In support of its channel substitution request, the Petitioner states that the Commission has recognized that very high frequency (VHF) channels have certain characteristics that pose challenges for their use in providing digital television service and the station has received many complaints from viewers unable to receive a reliable signal on channel 10. An analysis using the Commission's TVStudy software tool indicates that KTVQ's move from channel 10 to channel 20 is predicted to create a small area where approximately 3,624 persons are predicted to lose service, but that the loss area, is partially overlapped by the noise limited contours of Scripps' owned TV translator stations K15LB-D, Red Lodge, Montana, and K28ON-D, Castle Rock, Montana, both of which carry the CBS network programming aired by KTVQ. Accordingly, only 483 persons would lose CBS service if KTVQ moves to channel 20, which Petitioner argues is de minimis. In addition, the Engineering Statement shows that the loss area is also partially overlapped by the noise limited contours of KSVI (ABC) and KULR (NBC), Billings, Montana; KHMT (FOX), Hardin, Montana; and KSGW (ABC/FOX), Sheridan, Wyoming. Thus, viewers in the loss area will continue to have access to major network programming.

This is a synopsis of the Commission's Notice of Proposed Rulemaking, MB Docket No. 22-39; RM-11917; DA 22—87, adopted January 26, 2022, and released January 26, 2022. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a notice of proposed rulemaking is issued to the time the matter is no longer subject to Commission consideration or court review, see 47 CFR 1.1208. There are, however, exceptions to this prohibition, which can be found in § 1.1204(a) of the Commission's rules, 47 CFR 1.1204(a).

See §§ 1.415 and 1.420 of the Commission's rules for information regarding the proper filing procedures for comments, 47 CFR 1.415 and 1.420.

List of Subjects in 47 CFR Part 73

Television.

Federal Communications Commission.
Thomas Horan,
Chief of Staff, Media Bureau.

Proposed Rule

For the reasons discussed in the preamble, the Federal Communications Commission proposes to amend 47 CFR part 73 as follows:

PART 73—RADIO BROADCAST SERVICES

1. The authority citation for part 73 continues to read as follows:

Authority: 47 U.S.C. 154, 155, 301, 303, 307, 309, 310, 334, 336, 339.

2. In § 73.622(j), amend the Table of Allotments under Montana by revising the entry for Billings to read as follows:

§ 73.622 Digital television table of allotments.

* * * * *

(j) * * *

Community | Channel No.
* * * * *
MONTANA
* * * * *
Billings | 11, * 16, 18, 20
* * * * *

[FR Doc. 2022-02337 Filed 2-3-22; 8:45 am]

BILLING CODE 6712-01-P